DEPARTMENT OF ENERGY

Environmental Management Site-Specific Advisory Board, Northern New Mexico

AGENCY: Office of Environmental Management, Department of Energy.

ACTION: Notice of open meeting.

SUMMARY: This notice announces an online virtual combined meeting of the Consent Order Subcommittee and Risk Evaluation and Management Subcommittee of the Environmental Management Site-Specific Advisory Board (EM SSAB), Northern New Mexico.

DATES: Wednesday, February 21, 2024; 1:00 p.m. to 3:00 p.m. MST.

ADDRESSES: This meeting will be held virtually via WebEx. To attend, please contact Bridget Maestas by email, Bridget.Maestas@em.doe.gov, no later than 5:00 p.m. MST on Friday, February 16, 2024.

FOR FURTHER INFORMATION CONTACT: Bridget Maestas, Northern New Mexico Citizens' Advisory Board (NNMCAB), 94 Cities of Gold Road, Santa Fe, NM 87506; Phone (505) 709-7466; or Email: Bridget.Maestas@em.doe.gov.

SUPPLEMENTARY INFORMATION:

Purpose of the Board: The purpose of the Board is to provide advice and recommendations concerning the following EM site-specific issues: clean-up activities and environmental restoration; waste and nuclear materials management and disposition; excess facilities; future land use and long-term stewardship. The Board may also be asked to provide advice and recommendations on any EM program components.

Purpose of the Consent Order Subcommittee: The subcommittee reviews the 2016 Compliance Order on Consent, evaluate its strengths and weaknesses, and draft recommendations for the full Board's consideration as to how to improve it.

Purpose of the Risk Evaluation and Management Subcommittee: The subcommittee drafts external citizen-based recommendations for the full Board's consideration on human and ecological health risk resulting from historical, current, and future hazardous and radioactive legacy waste operations at Los Alamos National Laboratory.

Tentative Agenda:

• Presentation on Fiscal Year 2025 Budget

• Discussion on NNMCAB Recommendation on Fiscal Year 2025 Budget

Public Participation: The online virtual meeting is open to the public. To sign up for public comment, please contact Bridget Maestas at Bridget.Maestas@em.doe.gov, no later than 5:00 p.m. MST on Friday, February 16, 2024. Written statements may be filed with the Committees either before or within five days after the meeting by sending them to Bridget Maestas at the aforementioned email address. The Deputy Designated Federal Officer is empowered to conduct the meeting in a fashion that will facilitate the orderly conduct of business. Individuals wishing to make public comments will be provided a maximum of five minutes to present their comments.

Minutes: Minutes will be available by writing or calling Bridget Maestas at the email address or telephone number listed above. Minutes and other Board documents are on the internet at: https://energy.gov/em/nnmcab/meeting-materials.

Signing Authority: This document of the Department of Energy was signed on January 12, 2024, by David Borak, Deputy Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on January 19, 2024.
Treena V. Garrett,
Federal Register Liaison Officer, U.S. Department of Energy.

[FR Doc. 2024-01325 Filed 1-23-24; 8:45 am]

BILLING CODE 6450-01-P